DEPARTMENT OF LABOR

Employment and Training Administration

[TA-W-63,914]

Less Labor, Inc., Hopkinsville, KY, Notice of Termination of Investigation

Pursuant to Section 221 of the Trade Act of 1974, as amended, an investigation was initiated on August 21, 2008 in response to a worker petition filed by a company official on behalf of workers of Less Labor, Inc., Hopkinsville, Kentucky.

The petitioner has requested that the petition be withdrawn. Consequently, the investigation has been terminated.

Signed at Washington, DC, this 29th day of August 2008.
Richard Church,
Certifying Officer, Division of Trade Adjustment Assistance.

[FR Doc. E8-20691 Filed 9-5-08; 8:45 am]

BILLING CODE 4510-FN-P